SMALL BUSINESS ADMINISTRATION

[Declaration of Disaster #3499]

State of Oklahoma (Amendment #1)

In accordance with a notice received from the Department of Homeland Security—Federal Emergency Management Agency, effective May 22, 2003, the above numbered declaration is hereby amended to include Carter, Delaware, Kay, Muskogee, Okfuskee, Osage, Pontotoc, Roger Mills, Texas and Washington Counties in the State of Oklahoma as disaster areas due to damages caused by severe storms and tornadoes occurring on May 8, 2003 and continuing.

In addition, applications for economic injury loans from small businesses located in the contiguous counties of Adair, Beaver, Beckham, Cherokee, Cimarron, Coal, Craig, Custer, Dewey, Ellis, Grant, Haskell, Hughes, Jefferson, Johnston, Love, Marshall, Mayes, McIntosh, Murray, Nowata, Okmulgee, Ottawa, Pawnee, Rogers, Sequoyah, Tulsa and Wagoner in the State of Oklahoma; Benton County in the State of Arkansas; Baca County in the State of Colorado; Chautauqua, Cowley, Montgomery, Morton, Seward, Stevens and Sumner Counties in the State of Kansas; McDonald County in the State of Missouri; and Hansford, Hemphill, Ochiltree, Sherman and Wheeler Counties in the State of Texas may be filed until the specified date at the previously designated location. All other counties contiguous to the above named primary counties have been previously declared.

The economic injury number assigned to Arkansas is 9V4500; Colorado is 9V4600; Kansas is 9V4700; Missouri is 9V4800; and Texas is 9V4900.

All other information remains the same, i.e., the deadline for filing applications for physical damage is July 9, 2003, and for economic injury the deadline is February 10, 2004.

(Catalog of Federal Domestic Assistance Program Nos. 59002 and 59008).
Dated: May 23, 2003.
Herbert L. Mitchell,
Associate Administrator for Disaster Assistance.

[FR Doc. 03-13779 Filed 6-2-03; 8:45 am]

BILLING CODE 8025-01-P